DEPARTMENT OF AGRICULTURE

Agricultural Research Service

Economic Research Service

National Agricultural Statistics Service

National Institute of Food and Agriculture

2018 Research, Education, and Economics Farm Bill Implementation Listening Session

AGENCY: Agricultural Research Service, Economic Research Service, National Agricultural Statistics Service, National Institute of Food and Agriculture, Office of the Chief Scientist, USDA.

ACTION: Notice.

SUMMARY: In preparing to implement the Agriculture Improvement Act of 2018 (commonly referred to as the 2018 Farm Bill), USDA's Research, Education, and Economics (REE) mission area will host a listening session for public input regarding new programs and changes to existing programs implemented by the Agricultural Research Service (ARS), Economic Research Service (ERS), National Agricultural Statistics Service (NASS), National Institute of Food and Agriculture (NIFA), and the Office of the Chief Scientist (OCS).

DATES: Listening session: The listening session will be held on March 21, 2019 between the hours of 1 p.m. and 5 p.m. Eastern. Exact times to be announced upon registering.

Registration: You must register by 5 p.m. Eastern on March 20, 2019, to attend the listening session in person. If you are attending the listening session there is an expectation that the organization you are representing will be presenting oral comments. Attendance is limited to three individuals per organization; all individuals must register, but all three are not required to speak. In addition to presenting orally, you are also encouraged to submit one page of written comments by 5 p.m. Eastern on March 29, 2019. While we recommend written submissions be no more than one page or 500 words, we will accept materials that exceed those lengths.

Comments: If you are unable to attend the listening session in-person, written comments are welcome and are due by 5pm Eastern on March 29, 2019 to http://www.regulations.gov. Stakeholders attending the listening session in-person are welcome to submit comments to the Federal Register, but are not required. Stakeholder input received orally and in writing will be treated equally. All written comments received will be publicly available on http://www.regulations.gov. All oral comments will be transcribed and posted online within one month of the session.

ADDRESSES: Listening session: The meeting will be held at USDA headquarters in Washington, DC starting at 1 p.m. Eastern. Additional room details will be available upon registering at reelistens@usda.gov If you have questions, feel free to email REElistens@usda.gov.

Comments: We invite all who are interested to submit comments on this notice. In your comments, include the date, volume, and page number of this issue of the Federal Register, and the title of this notice. You may submit written comments until 5 p.m. Eastern on March 29, 2019 through the Federal eRulemaking Portal: Go to http://www.regulations.gov. Follow the online instructions for submitting comments.

FOR FURTHER INFORMATION CONTACT: Tiffany K. Jones, Research, Education, and Economics, USDA, 1400 Independence Avenue SW, Room 214-W, Washington, DC 20250; Telephone: (202) 720-1542, or Email: Tiffany.K.Jones@osec.usda.gov.

Persons with disabilities who require alternative means for communication should contact the USDA Target Center at (202) 720-2600 (voice).

SUPPLEMENTARY INFORMATION: The 2018 Farm Bill is intended to strengthen the agricultural research, education, and extension framework supporting the continuous technological advancement that has led to the success of the U.S. agricultural system. The listening session and open public comment period will provide an opportunity for stakeholders to share their thoughts about how USDA can streamline and improve program delivery, as well as enhance customer service. ARS conducts agricultural research over 690 research programs at laboratories in over 90 locations across the country. NASS and ERS collect and report data and economic analyses which are critical to producers, markets, and policy decision makers. NIFA is the extramural science funding agency within USDA that invests in and advances agricultural research, education, and extension to help solve national challenges in agriculture, food, the environment, and communities. The Office of the Chief Scientist provides strategic coordination of the science that informs the Department's and the Federal government's decisions, policies and regulations that impact all aspects of U.S. food and agriculture. We invite you to participate in the listening session in person or by submitting written comments to the Federal Register, pre-registration is required. The listening session will be transcribed and posted online within one month of the listening session.

On December 20, 2018, the 2018 Farm Bill (Pub. L. 115-334) was signed into law (see https://www.congress.gov/bill/115th-congress/house-bill/2/text). The Secretary of Agriculture and the respective USDA agencies, including, but not limited to ARS, ERS, NASS, and NIFA, are working to implement the provisions of the 2018 Farm Bill as expeditiously as possible to meet the needs of stakeholders. To allow for customer input and ensure transparency, it is important to hear from stakeholders regarding their priorities, concerns, and requests.

The purpose of the listening session is for REE to hear from the public; this is not a discussion with REE officials or a question and answer session. The purpose is to receive public input that each agency can factor into discretionary decisions that need to be made to implement the provisions of the 2018 Farm Bill.

The meeting is scheduled for 1 p.m.-5 p.m. Eastern on March 21, 2019, in the Jefferson Auditorium of the South Building of the USDA Headquarters at 14th Street and Independence Avenue SW, Washington, DC 20250.

The listening session will begin with brief opening remarks from USDA. Individual speakers providing oral comments will be limited to 3-5 minutes each. As noted above, speakers providing oral comments are encouraged, but not required to provide a written copy of their comments to the Federal Register by March 29 2019. All stakeholders interested in providing oral and written comments; are welcome to do so.

The purpose of the listening session is for REE to hear from stakeholders and other interested members of the public about the programs that are being implemented or revised by REE as required by the 2018 Farm Bill. Please refer to the name of the ARS, ERS, NASS, NIFA, or OCS program in your comment and the relevant section number in the 2018 Farm Bill. In your comments, provide your input about program changes, and anything else that may be helpful to USDA.

To identify the section numbers for your comments and to find the relevant text for ARS, ERS, NASS, NIFA, or OCS programs in the 2018 Farm Bill, the following is a list of sections for the ARS, ERS, NASS, and NIFA programs. Note, however, these relevant sections are not exhaustive, as REE has several provisions in other Farm Bill Titles:

Sec. 7101. Purposes of agricultural research, extension, and education.

Sec. 7102. Matters related to certain school designations and declarations.

Sec. 7103. National Agricultural Research, Extension, Education, and Economics Advisory Board.

Sec. 7104. Specialty crop committee.

Sec. 7105. Renewable energy committee discontinued.

Sec. 7106. Veterinary services grant program.

Sec. 7107. Grants and fellowships for food and agriculture sciences education.

Sec. 7109. Education grants to Alaska Native serving institutions and Native Hawaiian serving institutions.

Sec. 7110. Next generation agriculture technology challenge.

Sec. 7111. Land-grant designation.

Sec. 7112. Nutrition education program.

Sec. 7113. Continuing animal health and disease research programs.

Sec. 7114. Carryover of funds for extension at 1890 land-grant colleges, including Tuskegee University.

Sec. 7115. Extension and agricultural research at 1890 land-grant colleges, including Tuskegee University.

Sec. 7116. Reports on disbursement of funds for agricultural research and extension at 1862 and 1890 land-grant colleges, including Tuskegee University.

Sec. 7117. Scholarships for students at 1890 institutions.

Sec. 7118. Grants to upgrade agricultural and food sciences facilities at 1890 land-grant colleges, including Tuskegee University.

Sec. 7119. Grants to upgrade agriculture and food sciences facilities and equipment at insular area land-grant institutions.

Sec. 7120. New Beginning for Tribal Students.

Sec. 7121. Hispanic-serving institutions.

Sec. 7122. Binational agricultural research and development.

Sec. 7123. Partnerships to build capacity in international agricultural research, extension, and teaching.

Sec. 7124. Competitive grants for international agricultural science and education programs.

Sec. 7125. Limitation on indirect costs for agricultural research, education, and extension programs.

Sec. 7126. Research equipment grants.

Sec. 7127. University research.

Sec. 7128. Extension service.

Sec. 7129. Supplemental and alternative crops; hemp.

Sec. 7130. New Era Rural Technology program.

Sec. 7131. Capacity building grants for NLGCA Institutions.

Sec. 7132. Agriculture advanced research and development authority pilot.

Sec. 7133. Aquaculture assistance programs.

Sec. 7134. Rangeland research programs.

Sec. 7135. Special authorization for biosecurity planning and response.

Sec. 7136. Distance education and resident instruction grants program for insular area institutions of higher education.

Sec. 7201. Best utilization of biological applications.

Sec. 7202. Integrated management systems.

Sec. 7203. Sustainable agriculture technology development and transfer program.

Sec. 7204. National training program.

Sec. 7205. National strategic germplasm and cultivar collection assessment and utilization plan.

Sec. 7206. National Genetics Resources Program.

Sec. 7207. National Agricultural Weather Information System.

Sec. 7208. Agricultural genome to phenome initiative.

Sec. 7209. High-priority research and extension initiatives.

Sec. 7210. Organic agriculture research and extension initiative.

Sec. 7211. Farm business management.

Sec. 7212. Urban, indoor, and other emerging agricultural production research, education, and extension initiative.

Sec. 7213. Centers of excellence at 1890 Institutions.

Sec. 7214. Clarification of veteran eligibility for assistive technology program for farmers with disabilities.

Sec. 7215. National Rural Information Center Clearinghouse.

Sec. 7301. National food safety training, education, extension, outreach, and technical assistance program.

Sec. 7302. Integrated research, education, and extension competitive grants program.

Sec. 7303. Support for research regarding diseases of wheat, triticale, and barley caused by Fusarium graminearum or by Tilletia indica.

Sec. 7304. Grants for youth organizations.

Sec. 7305. Specialty crop research initiative.

Sec. 7306. Food Animal Residue Avoidance Database program.

Sec. 7308. Forestry products advanced utilization research.

Sec. 7401. Agricultural biosecurity communication center.

Sec. 7402. Assistance to build local capacity in agricultural biosecurity planning, preparation, and response.

Sec. 7403. Research and development of agricultural countermeasures.

Sec. 7404. Agricultural biosecurity grant program.

Sec. 7411. Grazing lands research laboratory.

Sec. 7412. Farm and Ranch Stress Assistance Network.

Sec. 7413. Natural products research program.

Sec. 7414. Sun grant program.

Sec. 7501. Critical Agricultural Materials Act.

Sec. 7502. Equity in Educational Land-Grant Status Act of 1994.

Sec. 7503. Research Facilities Act.

Sec. 7504. Agriculture and Food Research Initiative.

Sec. 7505. Extension design and demonstration initiative.

Sec. 7506. Repeal of review of agricultural research service.

Sec. 7507. Biomass research and development.

Sec. 7508. Reinstatement of matching requirement for Federal funds used in extension work at the University of the District of Columbia.

Sec. 7509. Renewable Resources Extension Act of 1978.

Sec. 7510. National Aquaculture Act of 1980.

Sec. 7511. Federal agriculture research facilities.

Sec. 7601. Enhanced use lease authority program.

Sec. 7602. Transfer of administrative jurisdiction over portion of Henry A. Wallace Beltsville Agricultural Research Center, Beltsville, Maryland.

Sec. 7603. Foundation for food and agriculture research.

Sec. 7604. Assistance for forestry research under the McIntire-Stennis Cooperative Forestry Act.

Sec. 7606. Collection of data relating to barley area planted and harvested.

Sec. 7607. Collection of data relating to the size and location of dairy farms.

Sec. 7609. Smith-Lever community extension program.

Sec. 7610. Mechanization and automation for specialty crops.

Sec. 7611. Experienced services program.

Sec. 7612. Simplified plan of work.

Sec. 7613. Review of land-grant time and effort reporting requirements.

Sec. 7614. Matching funds requirement.

Sec. 12301. Farming opportunities training and outreach.

Sec. 12302. Urban agriculture.

Sec. 12411. Office of the Chief Scientist.

Sec. 12607. Reports on Land Access and Farmland Ownership Data Collection.

Instructions for Attending the Meeting

Space for attendance at the listening session is limited. All organizations wishing to speak at the listening session must register by emailing REElistens@usda.gov by 5 p.m. Eastern on March 20, 2019. To register, the following information will be required:

• Attendee contact information;

• Company or organization representation information;

• Farm Bill topic interests; and

• The number of speakers.

• Optional: Written comments submitted to the Federal Register by 5 p.m. Eastern on March 29, 2019.

Upon arrival at the USDA, only registered persons providing valid photo identification will be permitted to enter. Extra time should be allotted to get through airport style security.

All written comments received will be publicly available on www.regulations .gov.

If you require special accommodations, such as a sign language interpreter, use the contact information above. The listening session location is accessible to persons with disabilities.

REE is interested in all comments. Additionally, feedback and comments received on REE-related sections may inform future webinars/listening sessions.

Stephen Censky,
Deputy Secretary, USDA.

[FR Doc. 2019-05132 Filed 3-14-19; 4:15 pm]

BILLING CODE 3410-05-P